DEPARTMENT OF ENERGY

Federal Energy Regulatory Commission

Sunshine Act Notice

January 8, 2003.

The following notice of meeting is published pursuant to section 3(A) of the Government in the Sunshine Act (Pub. L. No. 94-409), 5 U.S.C 552B:

Agency Holding Meeting: Federal Energy Regulatory Commission.

Date and Time: January 15, 2003, 10 a.m.

Place : Room 2C, 888 First Street, NE., Washington, DC 20426.

Status : Open.

Matters to be Considered: Agenda.

Note: items listed on the agenda may be deleted without further notice.

CONTACT PERSON FOR MORE INFORMATION Magalie R. Salas, Secretary, telephone (202) 208-0400. For a recording listing items stricken from or added to the meeting, call (202) 208-1627.

This is a list of matters to be considered by the commission. It does not include a listing of all papers relevant to the items on the agenda; however, all public documents may be examined in the reference and information center.

815th Meeting—January 15, 2003; Regular Meeting, 10 a.m.

Administrative Agenda

A-1.

Docket# AD02-1,000, Agency Administrative Matters

A-2.

Docket# AD02-7,000, Customer Matters, Reliability, Security and Market Operations

A-3.

Seams Resolution Presentation

A-4.

Staff Presentation on Winter Market Assessment

A-5.

Staff Presentation on Commission Use of Natural Gas Price Indices

Markets, Tariffs and Rates—Electric

E-1. Docket# EL03-23, 000, Pacer Power LLC

E-2. Docket# ER03-216, 000, Midwest Independent Transmission System Operator, Inc., and TransLink Development Company, LLC

E-3.

Docket# PL03-1, 000, Proposed Pricing Policy for Efficient Operation and Expansion of Transmission Grid

E-4.

Docket# EC02-113, 000, Cinergy Services, Inc., on behalf of PSI Energy, Inc., CinCap Madison, LLC and CinCap VII, LLC

E-5.

Omitted

E-6.

Omitted

E-7.

Docket# ER02-912, 000, Otter Tail Power Company

Other#s

ER02-912, 001, Otter Tail Power Company

ER02-912, 002, Otter Tail Power Company

ER02-912, 003, Otter Tail Power Company

ER02-912 004, Otter Tail Power Company

ER02-912 005, Otter Tail Power Company

ER02-1728 000, Otter Tail Power Company

ER02-1729 000, Otter Tail Power Company

ER02-1730 000, Otter Tail Power Company

ER02-1730 001, Otter Tail Power Company

ER02-1731 000, Otter Tail Power Company

ER02-1732 000, Otter Tail Power Company

ER02-1733 000, Otter Tail Power Company

E-8.

Docket#, ER02-977, 000, Wisconsin Power & Light Company

E-9.

Omitted

E-10.

Omitted

E-11.

Omitted

E-12.

Docket# ER02-1656, 010, California Independent System Operator Corporation

Other#S EL01-68, 025, Investigation of Wholesale Rates of Public Utility Sellers of Energy and Ancillary Services in the Western Electricity Coordinating Council

ER02-1656, 011, California Independent System Operator Corporation

ER02-1656, 012, California Independent System Operator Corporation

ER02-2576, 002, California Independent System Operator Corporation

E-13.

Docket# EL02-108, 000, Truckee Donner Public Utility District v. Idaho Power Company, IDACORP Energy, L.P., and IDACORP, Inc.

E-14.

Omitted

E-15.

Docket# RT03-1, 000, Communications with Independent Market Monitors

E-16.

Docket#

ER02-863, 000, Midwest Independent Transmission System Operator, Inc.

Other#S EL02-68, 000, Southern Minnesota Municipal Power Agency v. Alliant Energy Corporate Services, Inc.

ER02-330, 000, Alliant Energy Corporate Services, Inc.

ER02-330, 001, Alliant Energy Corporate Services, Inc.

ER02-863, 001, Midwest Independent Transmission System Operator, Inc.

E-17.

Docket# ER03-215, 000, Mirant Delta, LLC and Mirant Potrero, LLC

Markets, Tariffs and Rates—Gas

G-1.

Docket# RM00-6,002, Well Category Determinations

G-2.

Docket# RP03-206, 000, ANR Pipeline Company

G-3.

Docket# RP03-213, 000, Gulf South Pipeline Company, LP

G-4.

Docket# RP02-362, 001, PG&E Gas Transmission, Northwest Corp.

Other#s RP02-362, 002, PG&E Gas Transmission, Northwest Corp.

G-5.

Docket# RP96-200, 086, CenterPoint Energy Gas Transmission Company (Formerly Reliant Energy Gas Transmission Company)

Other#s RP96-200,089, CenterPoint Energy Gas Transmission

Company (Formerly Reliant Energy Gas Transmission Company)

G-6.

Docket# RP03-143,000, Tennessee Gas Pipeline Company

G-7.

Docket# CP88-391,027, Transcontinental Gas Pipe Line Corporation

Other#s CP88-391, 028, Transcontinental Gas Pipe Line Corporation

RP93-162, 012, Transcontinental Gas Pipe Line Corporation

RP93-162, 013, Transcontinental Gas Pipe Line Corporation

G-8.

Docket# RP03-82, 000, Kern River Company

G-9.

Docket# RP00-335, 002, Black Marlin Pipeline Company

Other#s RP01-414, 002, Black Marlin Pipeline Company

G-10.

Docket# RP96-312, 105, Tennessee Gas Pipeline Company

G-11.

Omitted

G-12.

Omitted

G-13.

Docket# RP99-480, 003, Texas Eastern Transmission, LP

Energy Projects—Hydro

H-1.

Docket# P-460, 000, City of Tacoma, Washington

H-2.

Docket# P-2738, 049, New York State Electric & Gas Corporation

H-3.

Docket# P-2145, 047, Public Utility District No. 1 of Chelan County, Washington

Other#s P-943, 077, Public Utility District No. 1 of Chelan

County, Washington

H-4.

Omitted

H-5.

Omitted

H-6.

Omitted

H-7.

Docket# P-10461, 011, Erie Boulevard Hydropower, L.P.

Other#s P-10462, 011, Erie Boulevard Hydropower, L.P.

H-8.

Omitted

H-9.

Docket# P-2816, 019, North Hartland, LLC

Energy Projects—Certificates

C-1.

Docket# RM03-4, 000, Emergency Reconstruction of Interstate

Natural Gas Facilities under the Natural

Gas Act

Other#s AD02-14, 000, Emergency Reconstruction of Interstate Natural Gas Facilities under the Natural Gas Act

C-2.

Docket# CP01-384, 002, Islander East Pipeline Company, LLC

Other#S CP01-385, 002, Islander East Pipeline Company, LLC

CP01-386, 002, Islander East Pipeline Company, LLC

CP01-387, 002, Algonquin Gas Transmission Company

C-3.

Docket# CP01-176, 004, Georgia Strait Crossing Pipeline LP

Other#S CP01-177, 002, Georgia Strait Crossing Pipeline LP

CP01-178, 002, Georgia Strait Crossing Pipeline LP

CP01-179, 002, Georgia Strait Crossing Pipeline LP

Magalie R. Salas,
Secretary.

[FR Doc. 03-832 Filed 1-10-03; 11:08 am]

BILLING CODE 6717-01-P